DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA SOAR Web-Based Data Form (OMB No. 0930-0329)—Revision

In 2009 the SAMHSA created a Technical Assistance Center to assist in the implementation of the Supplemental Security Income (SSI)/Social Security Disability Insurance (SSDI) Outreach, Access, and Recovery (SOAR) effort in all states. The primary objective of SOAR is to improve the allowance rate for the Social Security Administration's (SSA) disability benefits for people who are experiencing or at risk of homelessness, and who have serious mental illnesses.

During the SOAR training, the importance of keeping track of SSI/SSDI applications through the process is stressed. In response to requests from states implementing SOAR, the Technical Assistance Center under SAMHSA's direction developed a web-based data form that case workers can use to track the progress of submitted applications, including decisions received from SSA either on initial application or on appeal. This password-protected web-based data form is hosted on the SOAR Online Application Tracking (OAT) website (https://soartrack.samhsa.gov). Use of this form is completely voluntary.

There are two parts to the SOAR Web-based Data Form. Part I of the SOAR Web-based Data Form is intended for SOAR-trained case workers to enter the outcomes of SOAR-assisted SSI/SSDI applications. Part II of the SOAR Web-based Data Form includes two sections reserved for SOAR State Team Leads to report annually. The first section of Part II collects quantitative summary data from states that do not track SOAR-assisted SSI/SSDI applications using the SOAR Web-based Data Form Part I. The second section of Part II collects qualitative (open-ended) questions on annual SOAR accomplishments, identified challenges, and collaborations.

Data from Part I of the SOAR Web-based Data Form can be compiled into reports on decision results and the use of SOAR critical components, such as the SSA-1696 Appointment of Representative, which allows SSA to communicate directly with the case worker assisting with the application. These reports will be reviewed by agency directors, SOAR state-level leads, and the SAMHSA SOAR Technical Assistance Center to quantify the success of the effort overall and to identify areas where additional technical assistance is needed.

There are four proposed changes to Part I of this form. Four additional demographic questions will be asked in Demographic section of the SOAR Data Form Part I to include race, ethnicity, gender, and expanded response options re: involvement in the criminal justice or legal system. These questions will be answered by all 700 case worker respondents, on average 3 times per year. There are two proposed changes to Part II. Two additional response options were added into the Collaborations section of the Qualitative Questionnaire to provide respondents the opportunity to describe collaborations with child-serving organizations along with whether meetings and trainings were for SOAR for Adults or SOAR for Children. These questions will be answered by 75 respondents once per year.

The estimated response burden is as follows:

Form name | Numbers of respondents | Responses per respondent | Total responses | Hours per response | Total hour burden
SOAR Web-based Data Form (Part I) | 700 | 3 | 2,100 | .25 | 525
Annual Report Questions (Part II) | 75 | 1 | 75 | 1 | 37.50
Total | 775 |  | 2,175 |  | 562.50

Send comments to Carlos Graham, SAMHSA Reports Clearance Officer, Room 15E-57A, 5600 Fishers Lane, Rockville, MD 20857 OR email him a copy at Carlos.Graham@samhsa.hhs.gov. Written comments should be received by January 13, 2023.

Carlos Graham,
Reports Clearance Officer.

[FR Doc. 2022-24616 Filed 11-10-22; 8:45 am]

BILLING CODE 4162-20-P